MARINE MAMMAL COMMISSION

Committee Management; Notice of Public Meeting; Advisory Committee on Acoustic Impacts on Marine Mammals

AGENCY: Marine Mammal Commission.

ACTION: Notice of advisory committee meeting.

SUMMARY: The Marine Mammal Commission (Commission) will hold the sixth meeting of its Advisory Committee on Acoustic Impacts on Marine Mammals (Committee) 20 to 22 September, 2005 in Bethesda, Maryland.

DATES: The Committee will meet Tuesday, September 20, 2005, from 9 a.m. to approximately 6 p.m.; Wednesday, September 21, to 8:30 a.m. to approximately 6:30 p.m.; and Thursday, September 22, from 8:30 a.m. to approximately 6 p.m. This meeting is open to the public. These times and the agenda topics described below are subject to change. Please refer to the Commission's Web site (http://www.mmc.gov) for the most up-to-date meeting information. The Committee has no plans for future meetings.

ADDRESSES: The 20-22 September meeting will be held at the Holiday Inn Select Washington-Bethesda, 8120 Wisconsin Avenue, Bethesda, MD 20814, phone 877-888-3001 or 301-652-2000, fax 301-652-4525, Web http://www.holiday-inn.com/bethesdamd.

FOR FURTHER INFORMATION CONTACT: Erin Vos, Sound Project Manager, Marine Mammal Commission, 4340 East-West Hwy., Rm. 905, Bethesda, MD 20814, e-mail: evos@mmc.gov, tel.: 301-504-0087, fax: 301-504-0099; or visit the Commission's Web site at http://www.mmc.gov.

SUPPLEMENTARY INFORMATION: This meeting is to be held pursuant to the directive in the Omnibus Appropriations Act of 2003 (Pub. L. 108-7) that the Commission convene a conference or series of conferences to “share findings, survey acoustic ‘threats’ to marine mammals, and develop means of reducing those threats while maintaining the oceans as a global highway of international commerce.” The meeting agenda includes discussions and negotiations related to (1) the final draft report of the Advisory Committee on Acoustic Impacts on Marine Mammals, including the Executive Summary, Introduction, and chapters on Synthesis of Current Knowledge, Management and Mitigation, Research, and International Efforts; and (2) the process for endorsement of the final report. The agenda also includes two public comment sessions. Guidelines for making public comments, background documents, and the meeting agenda, including the specific times of public comment periods, will be posted on the Commission's Web site prior to the meeting. Written comments may be submitted in advance or at the meeting.

Dated: August 29, 2005.
David Cottingham,
Executive Director.

[FR Doc. 05-17601 Filed 9-2-05; 8:45 am]

BILLING CODE 6820-31-M